DEPARTMENT OF THE INTERIOR

Fish and Wildlife Service

[FWS-R8-ES-2008-N0100; 80221-1113-0000-F5]

Endangered Species Recovery Permit Applications

AGENCY: Fish and Wildlife Service, Interior.

ACTION: Notice of receipt of permit applications; request for comment.

SUMMARY: We invite the public to comment on the following applications to conduct certain activities with endangered species.

DATES: Comments on these permit applications must be received on or before June 2, 2008.

ADDRESSES: Written data or comments should be submitted to the U.S. Fish and Wildlife Service, Endangered Species Program Manager, Region 8, 2800 Cottage Way, Room W-2606, Sacramento, CA 95825 (telephone: 916-414-6464; fax: 916-414-6486). Please refer to the respective permit number for each application when submitting comments. All comments received, including names and addresses, will become part of the official administrative record and may be made available to the public.

FOR FURTHER INFORMATION CONTACT: Daniel Marquez, Fish and Wildlife Biologist, see ADDRESSES (telephone: 760-431-9440; fax: 760-431-9624).

SUPPLEMENTARY INFORMATION: The following applicants have applied for scientific research permits to conduct certain activities with endangered species pursuant to section 10(a)(1)(A) of the Endangered Species Act (16 U.S.C. 1531 et seq.). The U.S. Fish and Wildlife Service (“we”) solicits review and comment from local, State, and Federal agencies, and the public on the following permit requests. Before including your address, phone number, e-mail address, or other personal identifying information in your comment, you should be aware that your entire comment—including your personal identifying information—may be made publicly available at any time. While you can ask us in your comment to withhold your personal identifying information from public review, we cannot guarantee that we will be able to do so.

Permit No. TE-180579

Applicant: Dwane N. Oberhoff, Los Osos, California.

The applicant requests a permit to take (harass by survey and handle) the Morro shoulderband snail (Helminthoglypta waleriana) in conjunction with surveys throughout the range of the species in California, for the purpose of enhancing its survival.

Permit No. TE-180517

Applicant: Dylan O. Burge, Durham, North Carolina.

The applicant requests a permit to remove/reduce to possession the Ceanothus ferrisae (coyote ceanothus) and Ceanothus roderickii (pine hill ceanothus) from federal lands in conjunction with genetic research and taxonomic status studies in Santa Clara and El Dorado Counties, California for the purpose of enhancing their survival.

Permit No. TE-180430

Applicant: Jeffrey P. Jorgenson, Sacramento, California.

The applicant requests a permit to take (capture, collect, and kill) the Conservancy fairy shrimp (Branchinecta conservatio), the longhorn fairy shrimp (Branchinecta longiantenna), the Riverside fairy shrimp (Streptocephalus wootoni), the San Diego fairy shrimp (Branchinecta sandiegonensis), and the vernal pool tadpole shrimp (Lepidurus packardi) in conjunction with surveys throughout the range of each species within the jurisdiction of the U.S. Fish and Wildlife Service, Sacramento Fish and Wildlife Service Office, California, for the purpose of enhancing their survival.

Permit No. TE-180428

Applicant: Ramon E. Aberasturi, Sacramento, California.

The applicant requests a permit to take (capture, collect, and kill) the Conservancy fairy shrimp (Branchinecta conservatio), the longhorn fairy shrimp (Branchinecta longiantenna), the Riverside fairy shrimp (Streptocephalus wootoni), the San Diego fairy shrimp (Branchinecta sandiegonensis), and the vernal pool tadpole shrimp (Lepidurus packardi) in conjunction with surveys throughout the range of each species within the jurisdiction of the U.S. Fish and Wildlife Service, Sacramento Fish and Wildlife Service Office, California, for the purpose of enhancing their survival.

Permit No. TE-040510

Applicant: Ero Resources Corporation, Boise, Idaho.

The applicant requests an amendment to take (harass by survey, and locate/monitor nests) the southwestern willow flycatcher (Empidonax traillii extimus) in conjunction with surveys and monitoring activities throughout the range of the species in California and Nevada for the purpose of enhancing its survival.

Permit No. TE-094308

Applicant: Shay E. Lawrey, San Bernardino, California.

The applicant requests an amendment to take (harass by survey) the southwestern willow flycatcher (Empidonax trailli extimus) in conjunction with surveys throughout the range of the species in California for the purpose of enhancing its survival.

Permit No. TE-180585

Applicant: Bill A. Arnerich, Santa Rosa, California.

The permittee requests a permit to take (harass by survey, capture, handle, and release) the California tiger salamander (Ambystoma californiense) in conjunction with surveys in Sonoma County, California, for the purpose of enhancing its survival.

We solicit public review and comment on each of these recovery permit applications. Comments and materials we receive will be available for public inspection, by appointment, during normal business hours at the address listed in the ADDRESSES section of this notice.

Dated: April 28, 2008.
Michael Fris,
Acting Regional Director, Region 8, Sacramento, California.

[FR Doc. E8-9672 Filed 5-1-08; 8:45 am]

BILLING CODE 4310-55-P